NATIONAL AERONAUTICS AND SPACE ADMINISTRATION

[Notice: (15-054)]

NASA Advisory Council; Human Exploration and Operations Committee; Meeting

AGENCY: National Aeronautics and Space Administration.

ACTION: Notice of meeting.

SUMMARY: In accordance with the Federal Advisory Committee Act, Public Law 92-463, as amended, the National Aeronautics and Space Administration (NASA) announces a meeting of the Human Exploration and Operations (HEO) Committee of the NASA Advisory Council (NAC). This Committee reports to the NAC.

DATES: Monday, July 27, 2015, 10:00 a.m.-5:30 p.m., Local Time; and ; Tuesday, July 28, 2015, 8:00 a.m.-5:30 p.m., Local Time.

ADDRESSES: Jet Propulsion Laboratory, Building 186, Von Kármán Auditorium, 4800 Oak Grove Drive, Pasadena, CA 91109.

FOR FURTHER INFORMATION CONTACT: Dr. Bette Siegel, Executive Secretary for the NAC HEO Committee, Human Exploration and Operations Mission Directorate, NASA Headquarters, Washington, DC 20546, phone number 202-358-2245, or bette.siegel@nasa.gov.

SUPPLEMENTARY INFORMATION: The meeting will be open to the public up to the seating capacity of the room. This meeting is also available telephonically and by WebEx. You must use a touch tone phone to participate in this meeting. Any interested person may dial the USA toll-free conference call number 1-888-455-6733 or toll number 1-210-839-8935, and then the numeric participant passcode 3453695, to participate in this meeting by telephone. The WebEx link is https://nasa.webex.com/, the meeting number is 999 635 873, and the password is Exploration@2015 (case sensitive).

The agenda for the meeting includes the following topics:

—Status of the NASA Human Exploration and Operations Mission Directorate

—Jet Propulsion Laboratory Study of Humans to Mars

—Joint Session with NAC Technology, Innovation, and Engineering Committee

—Overview of Space Technology Program

—Briefing of Evolvable Mars Strategy and HEO Technology Development Efforts

—Overview of Hydrocarbon Engine Activities

—Overview of NASA Launch Services

—Communications Strategy

—Exploration Systems Development Status

—Asteroid Redirect Mission Status

—Commercial Crew Program Status

—International Space Station Status

Attendees will be required sign a register and to comply with Jet Propulsion Laboratory (JPL) security requirements including presentation of a valid picture ID (such as a driver's license for U.S. Citizens; Permanent Resident green card; or passport/visa for non-U.S. Citizens) before receiving admittance to JPL. Due to the Real ID Act, Public Law 109-13, any attendees with driver's licenses issued from non-compliant states/territories must present a second form of identification: [Federal employee badge; passport; active military identification card; enhanced driver's license; U.S. Coast Guard Merchant Mariner card; Native American tribal document; school identification accompanied by an item from LIST C (documents that establish employment authorization) from the “List of the Acceptable Documents” on Form I-9]. Non-compliant states/territories are: American Samoa, Arizona, Idaho, Louisiana, Maine, Minnesota, New Hampshire, and New York. Individuals without proper identification will not be admitted to the JPL. Members of the public interested in attending this meeting must contact Ms. Helen N. Paley of JPL at phone number 818-354-6427 or helen.n.paley@jpl.nasa.gov to receive a listing of the information required prior to admittance to JPL. Completed information spreadsheet must be emailed to Ms. Paley by no later than Friday, July 17, 2015. It is imperative that this meeting be held on these dates to accommodate the scheduling priorities of the key participants.

Patricia D. Rausch,
Advisory Committee Management Officer, National Aeronautics and Space Administration.

[FR Doc. 2015-16827 Filed 7-9-15; 8:45 am]

BILLING CODE 7510-13-P